FEDERAL COMMUNICATIONS COMMISSION

47 CFR Part 64

[CG Docket Nos. 10-51 and 03-123; DA 17-656]

Petition for Partial Reconsideration, or in the Alternative, Suspension of Action in Rulemaking Proceeding

Correction

In proposed rule 2017-15302, appearing on page 33856, in the issue of Friday, July 21, 2017, make the following correction:

On page 33856, in the second column, in the DATES section, in the fourth line, “July 31, 2017” should read “August 17, 2017”.

[FR Doc. C1-2017-15302 Filed 7-24-17; 8:45 am]

BILLING CODE 1301-00-D